DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2002 Business Expenses Survey.

Form Number(s): SA-5678(B) and several others with minor variations.

Agency Approval Number: None.

Type of Request: New collection.

Burden: 158,710 hours.

Number of Respondents: 95,375.

Avg. Hours Per Response: 1.66 hours.

Needs and Uses: The 2002 Business Expenses Survey will supplement basic economic statistics produced by the 2002 Economic Census of Wholesale Trade, Retail Trade, and Service Industries with estimates of operating expenses. Further, it will provide measures of value produced for wholesale trade and retail trade. Essential measurement of the Nation's economy requires compilation of comprehensive and reliable data on both economic outputs (e.g., sales) and inputs (e.g., utilities and advertising expenses). This survey is the sole source of comprehensive expenses input data for covered industries. The Census Bureau will collect the information by means of a mail canvass directed to a sample of business units that represent one or more domestic establishments in covered industries. Results will be presented primarily in electronic reports containing statistical summaries by industry for the United States.

This information collection is part of the 2002 Economic Census, which is required by law under Title 13, United States Code (U.S.C.). Section 131 of this statute directs the taking of a census of businesses, including the distributive trades, service establishments, and transportation, at 5-year intervals. Section 224 makes reporting mandatory. Section 193 authorizes surveys that collect supplementary statistics related to the main topic of the censuses. Finally, Section 195 permits the use of statistical sampling methods.

There will be several variations of the prototype report form and associated instruction sheets used in this information collection. They are all very similar, varying primarily by a few industry-specific expense-type inquiries such as motor fuels expense for transportation.

Affected Public: Business or other for-profit, not-for-profit institutions.

Frequency: One-time.

Respondent's Obligation: Mandatory.

Legal Authority: Title 13 U.S.C., Sections 131, 193, 195, and 224.

OMB Desk Officer: Susan Schechter, (202) 395-5103.

Copies of the above information collection proposal can be obtained by calling or writing Diana Hynek, Departmental Paperwork Clearance Officer, (202) 482-0266, Department of Commerce, room 6625, 14th and Constitution Avenue, NW, Washington, DC 20230 (or via the Internet at dhynek@doc.gov).

Written comments and recommendations for the proposed information collection should be sent within 30 days of publication of this notice to Susan Schechter, OMB Desk Officer, room 10201, New Executive Office Building, Washington, DC 20503.

Dated: September 20, 2002
Madeleine Clayton,
Management Analyst, Office of the Chief Information Officer.

[FR Doc. 02-24348 Filed 9-24-02; 8:45 am]

BILLING CODE 3510-07-P